DEPARTMENT OF HOMELAND SECURITY

[Docket No. DHS-2017-0035]

The President's National Security Telecommunications Advisory Committee

AGENCY: Department of Homeland Security.

ACTION: Committee Management; Notice of Federal Advisory Committee Meeting.

SUMMARY: The President's National Security Telecommunications Advisory Committee (NSTAC) will meet via teleconference on Friday, July 14, 2017. The meeting will be open to the public.

DATES: The NSTAC will meet on Friday, July 14, 2017, from 1:30 p.m. to 2:30 p.m. Eastern Daylight Time (EDT). Please note that the meeting may close early if the committee has completed its business.

ADDRESSES: The meeting will be held via conference call. For access to the conference call bridge, information on services for individuals with disabilities, or to request special assistance to attend, please email NSTAC@hq.dhs.gov by 5:00 p.m. EST on Thursday, July 13, 2017. Individuals who experience technical difficulties during the call should contact the NSTAC Designated Federal Officer at NSTAC@hq.dhs.gov.

Members of the public are invited to provide comment on the issues that will be considered by the committee as listed in the SUPPLEMENTARY INFORMATION section below. Associated briefing materials that participants may discuss during the meeting will be available at www.dhs.gov/nstac for review as of Monday, July 3, 2017. Comments may be submitted at any time and must be identified by docket number DHS-2017-0035. Comments may be submitted by one of the following methods:

• Federal eRulemaking Portal: http://www.regulations.gov. Please follow the instructions for submitting written comments.

• Email: NSTAC@hq.dhs.gov. Include the docket number DHS-2017-0035 in the subject line of the email.

• Fax: (703) 705-6190, ATTN: Sandy Benevides.

• Mail: Designated Federal Officer, Stakeholder Engagement and Critical Infrastructure Resilience Division, National Protection and Programs Directorate, Department of Homeland Security, 245 Murray Lane, Mail Stop 0612, Arlington, VA 20598-0612.

Instructions: All submissions received must include the words “Department of Homeland Security” and the docket number for this action. Comments received will be posted without alteration at www.regulations.gov, including any personal information provided.

Docket: For access to the docket and comments received by the NSTAC, please go to www.regulations.gov and enter docket number DHS-2017-0035.

A public comment period will be held during the conference call on Friday, July 14, 2017, from 2:00 p.m. to 2:15 p.m. EST. Speakers who wish to participate in the public comment period must register in advance by no later than Monday, July 10, 2017, at 5:00 p.m. EST by emailing NSTAC@hq.dhs.gov. Speakers are requested to limit their comments to three minutes and will speak in order of registration. Please note that the public comment period may end before the time indicated, following the last request for comments.

FOR FURTHER INFORMATION CONTACT: Helen Jackson, NSTAC Designated Federal Officer, Department of Homeland Security, (703) 705-6276 (telephone) or helen.jackson@hq.dhs.gov (email).

SUPPLEMENTARY INFORMATION: Notice of this meeting is given under the Federal Advisory Committee Act, 5 U.S.C. appendix (Pub. L. 92-463). The NSTAC advises the President on matters related to national security and emergency preparedness (NS/EP) telecommunications and cybersecurity policy.

Agenda: The NSTAC will hold a conference call on July 14, 2017, to discuss issues and challenges related to NS/EP communications. This will include discussions with senior-level Government stakeholders and a review of ongoing NSTAC work, including a deliberation and vote on the Committee's NSTAC Report to the President on Emerging Technologies Strategic Vision which addresses the near- and longer-term NS/EP implications of emergent and expected information and communications technologies. The NSTAC will also discuss the most recent tasking that was assigned to the committee at its meeting on May 18, 2017. The National Security Council, on behalf of the President, tasked the NSTAC to study ways in which the private sector and Government, together, can improve the resilience of the Internet and communications ecosystem. This includes identifying ways to encourage collaboration across the ecosystem to reduce the threats perpetuated by automated and distributed attacks (e.g., botnets). The desired outcome of the NSTAC's study will be twofold: (1) Industry and Government will have recommendations for strengthening their partnership; and (2) concrete pathways for reducing threats from automated and distributed attacks will be identified.

Dated: June 21, 2017.
Helen Jackson,
Designated Federal Officer for the NSTAC.

[FR Doc. 2017-13462 Filed 6-27-17; 8:45 am]

BILLING CODE 9110-9P-P